DEPARTMENT OF STATE

22 CFR Part 172

[Public Notice: 9045]

RIN 1400-AD75

Service of Process; Address Change

AGENCY: Department of State.

ACTION: Final rule.

SUMMARY: This rulemaking changes the address for service of process on the Department of State.

DATES: This rule is effective on March 6, 2015.

FOR FURTHER INFORMATION CONTACT: Alice Kottmyer, Office of the Legal Adviser, Department of State; phone: 202-647-2318, kottmyeram@state.gov.

SUPPLEMENTARY INFORMATION: This rulemaking provides the new address, effective immediately, for the service on the U.S. Department of State of the documents or actions listed in 22 CFR 172.1(a).

Regulatory Findings

Administrative Procedure Act

This rule is published as a final rule, effective immediately, pursuant to 5 U.S.C. 553(b) and 553(d)(3). The Department finds good cause for the immediate effect of the rule without notice and comment because public comment on an address change is unnecessary; and, more importantly, it is in the interest of the public for the Department to provide the correct address for service of process, and for it to be effective, as expeditiously as possible.

Other Authorities

(1) Since this rule is exempt from the rulemaking provisions of 5 U.S.C. 553, it does not require analysis under the Regulatory Flexibility Act.

(2) This rulemaking does not meet the criteria for Department actions under the Unfunded Mandates Reform Act of 1995; the Small Business Regulatory Enforcement Fairness Act of 1996; Executive Order 13175 (impact on tribes); or Executive Orders 12372 and 13132 (federalism). This rulemaking is not a major rule as defined by 5 U.S.C. 804.

(3) In the view of the Department, this rule is not a significant regulatory action as defined in Executive Order 12866, and is consistent with the guidance in Executive Order 13563. The benefits of this rulemaking—in providing a current address for service of process—outweigh any costs.

(4) This rulemaking does not impose or revise any information collections subject to the Paperwork Reduction Act.

List of Subjects in 22 CFR Part 172

Service of process.

Accordingly, for the reasons set forth above, title 22, part 172, is amended as follows:

PART 172—SERVICE OF PROCESS; PRODUCTION OR DISCLOSURE OF OFFICIAL INFORMATION IN RESPONSE TO COURT ORDERS, SUBPOENAS, NOTICES OF DEPOSITIONS, REQUESTS FOR ADMISSIONS, INTERROGATORIES, OR SIMILAR REQUESTS OR DEMANDS IN CONNECTION WITH FEDERAL OR STATE LITIGATION; EXPERT TESTIMONY

1. The authority citation for part 172 is amended as follows:

Authority: 5 U.S.C. 301; 8 U.S.C. 1202(f); 22 U.S.C. 2658, 2664, 3926.

2. In § 172.2(a), the last sentence is revised to read as follows:

§ 172.2 Service of summonses and complaints.

(a) * * * All such documents should be delivered or addressed to: The Executive Office, Office of the Legal Adviser, Suite 5.600, 600 19th Street NW., Washington DC 20036. (Note that the suite number is 5.600.)

* * * * *

Dated: February 27, 2015.
Alice Kottmyer,
Attorney Adviser, Office of the Legal Adviser.

[FR Doc. 2015-05285 Filed 3-5-15; 8:45 am]

BILLING CODE 4710-08-P